DEPARTMENT OF ENERGY

Federal Energy Regulatory Commission

[Docket No. RM01-10-007]

Standards of Conduct for Transmission Providers; Notice of Panelists; Standards of Conduct Technical Conference and Workshop

April 3, 2006.

As announced on February 28, March 3 and March 10, 2006, the Federal Energy Regulatory Commission (Commission) will hold a technical conference and workshop on Standards of Conduct for Transmission Providers on April 7, 2006, in Scottsdale, Arizona. The meeting will begin at 9 a.m. (MST) and conclude at approximately 4 p.m. All interested persons are invited to attend. Below is the agenda, including the panelists who will speak at the conference.

The purpose of the conference and workshop is to discuss Standards of Conduct for Transmission Providers under Order No. 2004.¹ It will be held at the Scottsdale Plaza Resort located at 7200 North Scottsdale Road, Scottsdale, Arizona.

¹ Standards of Conduct for Transmission Providers, Order No. 2004, FERC Stats. & Regs., Regulations Preambles ∥ 31,155 (2003), order on reh'g, Order No. 2004-A, III FERC Stats. & Regs. ∥ 31,161 (2004), 107 FERC ∥ 61,032 (2004), order on reh'g, Order No. 2004-B, III FERC Stats. & Regs. ∥ 31,166 (2004), 108 FERC ∥ 61,118 (2004), order on reh'g, Order No. 2004-C, 109 FERC ∥ 61,325 (2004), order on reh'g, Order No. 2004-D, 110 FERC ∥ 61,320 (2005), National Fuel Gas Supply Corp., et al. v. FERC, Nos. 04-1188, et al. (D.C. Cir. Filed June 9, 2004).

Agenda for Standards of Conduct Conference

April 7, 2006

9-9:45 Introductory Remarks

9:45—10:45 Industry Panel on Independent Functioning Requirements

• Creditworthiness and risk management functions.

• Application of Standards of Conduct to employees of holding company, service company, parent company or other non-transmission provider affiliates providing services to the Transmission Provider.

Staff Moderator: Lee Ann Watson.

Panelists: Douglas Smith, Member, Van Ness Feldman P.C., Janice Alperin, Vice President and Associate General Counsel, El Paso Corporation, Antonia Frost, Partner, Bruder Gentile and Marcoux.

10:45-11 Break

11-12 Panel on Integrated Resource Planning

• Discussion of how companies currently engage in Integrated Resource Planning.

• Discussion of concerns or problems that the industry is encountering in implementing the Standards of Conduct while performing Integrated Resource Planning.

Staff Moderator: Deme Anas.

Panelists: David Raskin, Partner, Steptoe and Johnson, LLP; Donna Attanasio, Partner, Dewey Ballantine; Tom DeBoer, Director, Rates and Regulatory Affairs, Puget Sound Energy.

12-1:30 Lunch Break

1:30-2:30 Industry Panel on Information Sharing Prohibitions—Do's and Don'ts

• Permissible communications with affiliated Transmission Providers.

• Communications in nomination/scheduling/confirmation process.

• Transaction specific communications with affiliated shippers.

• Communications between Transmission Providers and Marketing or Energy Affiliates during litigation proceedings/settlement negotiations or other docketed Commission proceedings.

Staff Moderator: Robert Pease.

Panelists: Sherry Nelson, FERC Standards of Conduct Compliance Officer, The Williams Companies; Michel Sweeney, Partner, Hunton & Williams LLP; Keshmira McVey, Chief Compliance Officer, Bonneville Power Administration.

2:30-2:45 Break

2:45-3:45 Staff Panel Responding to Written Questions

• Staff responding to written questions or inquiries that have been submitted before and during conference.

3:45-4 Concluding Remarks

* * * * *

As included in earlier notices, there is no registration fee to attend this conference. However, we request that those planning to attend the conference register online, until close of business on April 4, on the Commission's Web site at https://www.ferc.gov/whats-new/registration/sc-0407-form.asp.

A free audio webcast of this event is available through www.ferc.gov. Anyone with Internet access who desires to listen to this event can do so by navigating to http://www.ferc.gov's Calendar of Events and locating this event in the Calendar. (Please note that Scottsdale, Arizona is not on Daylight Savings Time.) The event will contain a link to its webcast. The Capitol Connection provides technical support for the webcasts and offers access to the meeting via phone bridge for a fee. If you have any questions, visit http://www.CapitolConnection.org or contact Danelle Perkowski or David Reininger at 703-993-3100.

Transcripts of the meeting will be available immediately for a fee from Ace Reporting Company (202-347-3700 or 1-800-336-6646). They will be available for free on the Commission's eLibrary system and on the events calendar about two weeks after the conference.

Questions about the conference and workshop should be directed to: Demetra Anas, Office of Market Oversight and Investigations, Federal Energy Regulatory Commission, 888 First Street, NE., Washington, DC 20426. 202-502-8178. Demetra.Anas@ferc.gov.

Magalie R. Salas,
Secretary,

[FR Doc. E6-5286 Filed 4-10-06; 8:45 am]

BILLING CODE 6717-01-P